U.S.-CHINA ECONOMIC AND SECURITY REVIEW COMMISSION

Notice of Open Meetings To Prepare 2010 Report to Congress

AGENCY: Advisory Committee: U.S.-China Economic and Security Review Commission.

ACTION: Notice of open meetings to prepare 2010 Annual Report to Congress—August 11-12, 2010, September 14-15, 2010, September 29-30, 2010, and October 12-14, 2010 in Washington, DC.

SUMMARY: Notice is hereby given of meetings of the U.S.-China Economic and Security Review Commission.

Name: Daniel Slane, Chairman of the U.S.-China Economic and Security Review Commission.

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions * * *”.

Purpose of Meetings: Pursuant to this mandate, the Commission will meet in Washington, DC on August 11-12, 2010, September 14-15, 2010, September 29-30, 2010, and October 12-14, 2010, to consider the first and later rounds of drafts of material for its 2010 Annual Report to Congress that have been prepared for its consideration by the Commission staff, and to make modifications to those drafts that Commission members believe are needed.

Topics to be Discussed: The Commissioners will be considering draft report sections addressing the following topics:

• The United States-China trade and economic relationship, including the relationship's current status; the implications of U.S. debt to China; the effect of China's energy and environmental policies; and China's role in the World Trade Organization.

• The implications of China's green technology policies and their impact in Ohio.

• China's activities directly affecting U.S. security interests, including its expansion security activities abroad, recent military modernization, and the expansion of its aviation and aerospace industries.

• China's foreign and regional activities and relationships in East Asia, including those pertaining to Southeast Asia, Taiwan, and to its own special administrative region of Hong Kong.

• China's control of information and its impact on the United States, including China's “state secret” laws, the extent and transparency of information available for investors in China, and China's internet censorship.

Dates and Times* (Eastern Daylight Time):

—Wednesday and Thursday, August 11-12, 2010 (10 a.m. to 4 p.m.)

—Tuesday and Wednesday, September 14-15, 2010 (10 a.m. to 4 p.m.)

—Wednesday and Thursday, September 29-30, 2010 (10 a.m. to 4 p.m.)

—Tuesday and Wednesday, October 12-14, 2010 (10 a.m. to 4 p.m.)

*Please check the U.S.-China Commission Web site (http://www.uscc.gov) for any updates or changes in meeting times.

ADDRESSES: All meetings will be held in Conference Room 233 (2nd Floor), except the meetings on October 12-14 that will be held in Conference Room 231, of The Hall of States located at 444 North Capitol Street, NW., Washington, DC 20001. Public seating is limited and will be available on a “first-come, first-served” basis. Advanced reservations are not required. All participants must register at the front desk of the lobby.

Required Accessibility Statement: The entirety of these Commission editorial and drafting meetings will be open to the public. The Commission may recess the public editorial/drafting meetings to address administrative issues in closed session.

FOR FURTHER INFORMATION CONTACT: Michael Danis, Executive Director, U.S.-China Economic and Security Review Commission, 444 North Capitol Street, NW., Suite 602, Washington, DC 20001; Phone: (202) 624-1407; E-mail: contact@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: August 4, 2010.
Michael Danis,
Executive Director, U.S.-China Economic and Security Review Commission.

[FR Doc. 2010-19625 Filed 8-9-10; 8:45 am]

BILLING CODE 1137-00-P